DEPARTMENT OF THE INTERIOR

National Park Service

[NPS-WASO-NAGPRA-22840; PPWOCRADN0-PCU00RP14.R50000]

Notice of Inventory Completion: Arkansas State Highway and Transportation Department, Little Rock, AR

AGENCY: National Park Service, Interior.

ACTION: Notice.

SUMMARY: The Arkansas State Highway and Transportation Department has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Arkansas State Highway and Transportation Department. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Arkansas State Highway and Transportation Department at the address in this notice by April 6, 2017.

ADDRESSES: Kristina Boykin, Arkansas State Highway and Transportation Department, P.O. Box 2261, Little Rock, AR 72203, telephone (501) 569-2079, email Kristina.Boykin@ahtd.AR.gov.

SUPPLEMENTARY INFORMATION: Notice is here given in accordance with the Native American Graves Protection and Repatriation Act (NAGPRA), 25 U.S.C. 3003, of the completion of an inventory of human remains and associated funerary objects under the control of the Arkansas State Highway and Transportation Department. The human remains and associated funerary objects were removed from Hot Spring and Clark counties, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Arkansas State Highway and Transportation Department professional staff in consultation with representatives of the Caddo Nation of Oklahoma.

History and Description of the Remains

In 1998, human remains representing, at minimum, nine individuals were recovered from the Helm site (3HS499) in Hot Spring County, AR, during data recovery for the replacement of a bridge. The Arkansas State Highway and Transportation Department contracted the excavations out to Mid-Continental Research Associates, Inc., in Lowell, AR. The human remains were taken to the laboratory at Mid-Continental Research Associates, Inc., for analysis and then to the Arkansas Archeological Survey (AAS) for curation. The human remains were identified as one infant (less than two years old), three children (2 to 12 years), two youth (13 to 18 years), and three adults (19 to 35 years). The human remains consisted of two females, two males, and five undetermined. No known individuals were identified. The 23 associated funerary objects are 3 bowls, 2 bottles, 1 jar, 12 undescribed ceramic vessels, 4 deposits of red ochre, and 1 piece of metal. These associated funerary objects and other diagnostic artifacts found at site 3HS449 indicate that these human remains were probably buried during the Late Caddo Period (A.D. 1450-1700).

In 1987, human remains representing, at minimum, 24 individuals were recovered from the Hardman site (3CL418) in Clark County, AR. The Hardman site was excavated to mitigate the impacts of the construction of a bridge over Bayou Saline. The Arkansas State Highway and Transportation Department contracted the excavations out to the AAS, and the human remains and associated funerary objects have remained at the AAS's collections since the time of their removal. No known individuals were identified. The 105 associated funerary objects include 1 untyped Plain bottle (FSN134), 1 Hodges engraved var. Hodges bottle (FSN274-1), 1 untyped undecorated bowl (FSN274-2), 1 Hodges engraved var. Nix carinated bowl (FSN276), 1 Hodges engraved var. Fowler bottle (FSN290-1), 1 De Roche incised jar var. Central (FSN290-2), 2 cut shell disks (FSN290), 1 untyped wide mouth bottle (FSN322), 1 untyped compound bottle (FSN326-1), 1 Glassell engraved (var. Atkins?) carinated bowl (FSN326-2), 1 Karnak brushed incised var. Midway jar (FSN326-3), 4 river cobbles (FSN326), 1 arrow point (FSN326), 1 Huson engraved bottle (FSN333-1), 1 Hodges engraved var. Nix carinated bowl (FSN333-2), 1 De Roche incised var. Central jar (FSN333-3), 1 Hodges engraved var. Hodges bottle (FSN335-1), 1 Hodges engraved var. Hodges cup (FSN335-2), 1 Hodges engraved var. Hodges bottle (FSN704-1), 1 Old Town Red var. Beaver Dam bowl (FSH704-2), 1 De Roche incised var. Central jar (FSN704-3), 2 freshwater bivalve shells (FSH704), 2 cut shell disks (FSH704), 49 barrel-shaped shell beads (FSN704), 1 green clay patty, 1 untyped incised bowl (FSN708-1), 1 Keno trailed bottle (FSN708-2), 1 Friendship engraved var. Tisdale carinated bowl (FSN912-1), 1 untyped seed jar (FSN912-2), 1 Friendship engraved var. Unspecified carinated bowl (FSN912-3), 1 untyped punctuated jar (FSN912-4), 1 Caney punctuated var. Caney jar (FSN912-5), 1 Keno trailed var. Red Hill bottle (FSN924-1), 1 Karnack brushed incised var. Midway jar (FSN924-2), 1 untyped plain-bodied bottle (FSN1108-1), 1 Simms engraved carinated bowl (FSN1108-2), 1 untyped undecorated bottle (FSN1116-1), 1 Cook engraved var. Cook carinated bowl (FSN1116-2), 1 Cook engraved var. Cook carinated bowl (FSN1116-3), 1 Hardman engraved var. Hardman bowl (FSN1116-4), 1 Friendship engraved var. Freeman carinated bowl (FSN1116-5), 1 Hardman engraved var. Hardman bowl (FSN1116-6), 1 Garland engraved carinated bowl (FSN1116-7), 1 Caney puntated var. Caney jar (FSN1116-8), 1 Hardman engraved var. Joan bowl (FSN1116-9), 1 Hardman engraved var. Hardman bowl (FSN1116-10), 1 Blakely engraved var. Witherspoon bottle (FSN1116-11), 1 Friendship engraved var. Freeman carinated bowl (FSH1116-12), 1 Belcher engraved var. Manchester bottle (FSN1116-13), 1 Friendship engraved var. Freeman carinated bowl (FSN1116-14), and 1 Basset arrow point (FSN1116). Based on the types of associated funerary objects, these burials have been dated to the Late Caddo, Deceiper phase (A.D. 1600-1700).

Determinations Made by the Arkansas State Highway and Transportation Department

Officials of the Arkansas State Highway and Transportation Department have determined that:

• Pursuant to 25 U.S.C. 3001(9), the human remains described in this notice represent the physical remains of 33 individuals of Native American ancestry.

• Pursuant to 25 U.S.C. 3001(3)(A), the 128 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian tribe or Native Hawaiian organization not identified in this notice that wish to request transfer of control of these human remains and associated funerary objects should submit a written request with information in support of the request to Kristina Boykin, Arkansas State Highway and Transportation Department, P.O. Box 2261, Little Rock, AR 72203, telephone (501) 569-2079, email Kristina.Boykin@ahtd.AR.gov, by April 6, 2017. After that date, if no additional requestors have come forward, transfer of control of the human remains and associated funerary objects to the Caddo Nation of Oklahoma may proceed.

The Arkansas State Highway and Transportation Department is responsible for notifying the Caddo Nation of Oklahoma that this notice has been published.

Dated: February 1, 2017.
Melanie O'Brien,
Manager, National NAGPRA Program.

[FR Doc. 2017-04400 Filed 3-6-17; 8:45 am]

BILLING CODE 4312-52-P